DEPARTMENT OF DEFENSE

Department of the Air Force

[Docket ID: USAF-2019-HQ-0012]

Proposed Collection; Comment Request

AGENCY: Secretary of the Air Force, DoD.

ACTION: Information collection notice.

SUMMARY: In compliance with the Paperwork Reduction Act of 1995, the Secretary of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 13, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DoD Military Working Dog Program, 1030 Air Force Pentagon, Rm 5E762, Washington, DC 20330-1030, Dr. Richard Vargus, 703-545-9808.

SUPPLEMENTARY INFORMATION:

Title; Associated Form; and OMB Number: Department of Defense Military Working Dog Adoption Application; DD Form 810-7, OMB Control Number 0701-XXXX.

Needs and Uses: This form will be used to assess the suitability of US citizens and local and state law enforcement agencies to adopt Department of Defense Military Working Dogs, as outlined in DoDI 5200.31E, Title 10 United States Code § 2583, and AFI 31-126. The information is needed to determine if individuals voluntarily submitting the adoption application are suitable adopters for Military Working Dogs, based on the best interests of the Military Working Dog. The information will be used to contact applicants and to interview, screen and select applicants for voluntary adoption.

Affected Public: Individuals or Households; State, Local or Tribal Government.

Annual Burden Hours: 1.

Number of Respondents: 200.

Responses per Respondent: 1.

Annual Responses: 200.

Average Burden per Response: 1 hour.

Frequency: 1.

Dated: November 6, 2019.
Aaron T. Siegel,
Alternate OSD Federal Register Liaison Officer, Department of Defense.

[FR Doc. 2019-24524 Filed 11-8-19; 8:45 am]

BILLING CODE 5001-06-P